DEPARTMENT OF TRANSPORTATION

Federal Aviation Administration

14 CFR Part 71

[Docket No. FAA-2019-0347; Airspace Docket No. 19-AEA-6]

RIN 2120-AA66

Establishment of Class E Airspace; Endicott, NY; Correction

AGENCY: Federal Aviation Administration (FAA), DOT.

ACTION: Final rule; correction.

SUMMARY: This action corrects a final rule published in the Federal Register on July 23, 2019, establishing Class E airspace for Tri-Cities Airport, Endicott, NY, by correcting the airport's name in the legal description. The `dash' was inadvertently omitted from the airport name in the body of the legal description.

DATES: Effective 0901 UTC, October 10, 2019. The Director of the Federal Register approves this incorporation by reference action under Title 1 Code of Federal Regulations part 51, subject to the annual revision of FAA Order 7400.11 and publication of conforming amendments.

FOR FURTHER INFORMATION CONTACT: John Fornito, Operations Support Group, Eastern Service Center, Federal Aviation Administration, 1701 Columbia Ave, College Park, GA 30337; telephone (404) 305-6364.

SUPPLEMENTARY INFORMATION:

History

The FAA published a final rule in the Federal Register (84 FR 35290, July 23, 2019) for Doc. No. FAA-2019-0347, establishing Class E airspace extending upward from 700 feet or more above the surface at Tri-Cities Airport, Endicott, NY. Subsequent to publication, the FAA found that the dash was omitted from Tri-Cities Airport in the body of the legal description. This action corrects the error.

Class E airspace designations are published in paragraph 6005 of FAA Order 7400.11C dated August 13, 2018, and effective September 15, 2018, which is incorporated by reference in 14 CFR part 71.1. The Class E airspace designations listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

Correction to Final Rule

Accordingly, pursuant to the authority delegated to me, in the Federal Register of July 23, 2019 (84 FR 35290) FR Doc. 2019-15525, the establishment of Class E Airspace for Tri-Cities, Endicott, NY is corrected as follows:

§ 71.1 [Amended]

AEA NY E5 Endicott, NY [Corrected]

Tri-Cities Airport, NY

(Lat. 42°4′43″ N, long. 76°5′47″ W)

That airspace extending upward from 700 feet above the surface within an 8-mile radius of Tri-Cities Airport.

Issued in College Park, Georgia, on August 26, 2019.
Shawn Reddinger,
Acting Manager, Operations Support Group, Eastern Service Center, Air Traffic Organization.

[FR Doc. 2019-18969 Filed 9-3-19; 8:45 am]

BILLING CODE 4910-13-P